FEDERAL MARITIME COMMISSION

Announcement of Requirements and Registration for the Federal Maritime Commission Chairman's Earth Day Award

SUBJECT: As authorized by the America COMPETES Act Reauthorization Act of 2011, Public Law 111-358, the Federal Maritime Commission's Maritime Environmental Committee (MEC) announces the FMC Chairman's Earth Day Award. This award seeks to recognize members of the maritime transportation industry for innovations and successes in developing environmentally sustainable shipping practices. Specifically, this award will seek to highlight technologies, programs, or practices of the maritime transportation industry that, through efficiency or innovation, benefit our environment.

Eligibility:

The Chairman's Earth Day Award is open to participants that meet the following requirements:

(1) In the case of a private entity, shall be incorporated in and maintain a primary place of business in the United States.

(2) In the case of an individual, whether participating singly or in a group, shall be a citizen or permanent resident of the United States.

(3) Shall not be a Federal entity or Federal employee acting within the scope of their employment.

Criteria:

At the end of the submission period, eligible submissions will be evaluated by members of the MEC based on the following criteria:

(1) Programs or practices that provide an environmental benefit or reduction in environmental harm, including but not limited to efforts that encourage a reduction in emissions or pollutants.

(2) Programs or practices that are sustainable and also serve as models for others to follow or replicate.

(3) Efforts that increase the public's awareness of the maritime transportation industry's efforts to protect the environment.

DATES: Important Dates for this award are:

Submission Period Begins: January 13, 2014.

Submission Period Ends: March 10, 2014.

Registration process:

Submissions should include a title and a description of the program or practice in the form of a document (5 page maximum) or a slide presentation (10 slides maximum). A web address for the program or practice along with pictures and video are optional but helpful. Email submissions to mhoang@fmc.gov are preferred, but submissions can be mailed to the following address: Mary Hoang, Federal Maritime Commission, 800 North Capitol St. NW., Washington, DC 20573.

Award:

At the end of the submission period, all eligible entries will be reviewed by members of the MEC. This is a non-monetary award and no prize money or funding will be distributed to the award winner. This is an award of recognition and past winners have been presented with a commemorative plaque at Commission headquarters in Washington, DC.

General conditions:

The Chairman reserves the right to cancel, suspend, and/or modify the award process, or any part of it, for any reason, at the Chairman's sole discretion. No rights are created by this announcement, the award process, or the determination of the award, which will be decided at the sole discretion of the Chairman, based upon the recommendation of the MEC.

Additional information:

The award winner may not claim FMC or MEC endorsement. This award does not constitute an endorsement of a specific product, program or practice by the FMC, MEC, or the U.S. Federal Government.

For more information about the FMC and the Chairman's Earth Day Award, please contact Mary Hoang at 202-521-5733 or visit: http://www.fmc.gov/news/maritime_environmental_issues.aspx.

Rachel Dickon,
Assistant Secretary.

[FR Doc. 2014-00703 Filed 1-15-14; 8:45 am]

BILLING CODE 6730-01-P